DEPARTMENT OF TRANSPORTATION

Federal Aviation Administration

14 CFR Part 39

[Docket No. 99-NM-338-AD; Amendment 39-11709; AD 2000-09-01]

RIN 2120-AA64

Airworthiness Directives; McDonnell Douglas Model DC-8 Series Airplanes

AGENCY: Federal Aviation Administration, DOT.

ACTION: Final rule.

SUMMARY: This amendment supersedes an existing airworthiness directive (AD), applicable to certain McDonnell Douglas Model DC-8 series airplanes, that currently requires a revision to the Airplane Flight Manual Supplement to ensure that the main deck cargo door is closed, latched, and locked; repetitive inspections of the wire bundle and door latch rollers to detect damage; and repair or replacement of damaged components. This amendment requires, among other actions, modification of the indication and hydraulic systems of the main deck cargo door, and installation of a means to prevent pressurization to an unsafe level if the main deck cargo door is not closed, latched, and locked. This amendment is prompted by the FAA's determination that certain main deck cargo door systems do not provide an adequate level of safety; the latching and locking mechanisms are not of adequate design to prevent structural deformation in the event of component jamming; and that there is an absence of a means to prevent pressurization to an unsafe level if the main deck cargo door is not closed, latched, and locked. The actions specified by this AD are intended to prevent opening of the cargo door while the airplane is in flight, and consequent rapid decompression of the airplane including possible loss of the door, flight control, or severe structural damage.

DATES: Effective June 7, 2000.

The incorporation by reference of certain publications listed in the regulations is approved by the Director of the Federal Register as of June 7, 2000.

ADDRESSES: The service information referenced in this AD may be obtained from National Aircraft Service, Inc. (NASI), 9133 Tecumseh-Clinton Road, Tecumseh, MI 49286. This information may be examined at the Federal Aviation Administration (FAA), Transport Airplane Directorate, Rules Docket, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

FOR FURTHER INFORMATION CONTACT: Michael E. O'Neil, Aerospace Engineer, Airframe Branch, ANM-120L, FAA, Transport Airplane Directorate, Los Angeles Aircraft Certification Office, 3960 Paramount Boulevard, Lakewood, California 90712-4137; telephone (562) 627-5320; fax (562) 627-5210.

SUPPLEMENTARY INFORMATION: A proposal to amend part 39 of the Federal

Aviation Regulations (14 CFR part 39) by superseding AD 93-20-02, amendment 39-8709 (58 FR 53635, October 18, 1993), which is applicable to certain McDonnell Douglas Model DC-8 series airplanes, was published in the Federal Register on December 22, 1999 (64 FR 71689). The action proposed to continue to require a revision to the Airplane Flight Manual Supplement (AFMS) to ensure that the main deck cargo door is closed, latched, and locked; repetitive inspections of the wire bundle and door latch rollers to detect damage; and repair or replacement of damaged components. The action also proposed to require, among other actions, modification of the indication and hydraulic systems of the main deck cargo door, and installation of a means to prevent pressurization to an unsafe level if the main deck cargo door is not closed, latched, and locked.

Comment Received

Interested persons have been afforded an opportunity to participate in the making of this amendment. Due consideration has been given to the comment received.

Revise Alternative Method of Compliance (AMOC) Paragraph

One commenter requests that the proposed AD be revised to include a statement that any AMOC approved previously in accordance with AD 93-20-02 is acceptable for compliance with paragraph (b) of this AD. The commenter states that it has received FAA approval of an AMOC to paragraph (a) of AD 93-20-02 for an installation of a door warning system that includes an Airplane Flight Manual Supplement (AFMS) other than that approved for STC SA1802SO.

The FAA concurs. AMOC approvals to paragraph (a) or (b) of AD 93-20-02 continue to apply to paragraphs (a) and (b) of this final rule, respectively. Therefore, the FAA has revised paragraph (g) of the final rule accordingly. However, operators that received AMOC's to AD 93-20-02 must still comply with the requirements of paragraphs (c), (d), and (e) of this AD.

Conclusion

After careful review of the available data, including the comment noted above, the FAA has determined that air safety and the public interest require the adoption of the rule with the change previously described. The FAA has determined that this change will neither increase the economic burden on any operator nor increase the scope of the AD.

Cost Impact

There are approximately 32 Model DC-8 series airplanes of the affected design in the worldwide fleet. The FAA estimates that 29 airplanes of U.S. registry will be affected by this AD.

The actions that are currently required by AD 93-20-02, and retained is this AD, take approximately 1 work hour per airplane to accomplish, at an average labor rate of $60 per work hour. Based on these figures, the cost impact of the currently required actions on U.S. operators is estimated to be $1,740, or $60 per airplane, per inspection cycle.

It will take 1 work hour per airplane to accomplish the new replacement of circuit breakers, at an average labor rate of $60 per work hour. Required parts will cost approximately $265 per airplane. Based on these figures, the cost impact of this new replacement required by this AD on U.S. operators is estimated to be $9,425, or $325 per airplane.

It will take 80 work hours per airplane to accomplish the new modification of the hydraulic systems, at an average labor rate of $60 per work hour. Required parts will cost approximately $20,000 per airplane. Based on these figures, the cost impact of this new modification required by this AD on U.S. operators is estimated to be $719,200, or $24,800 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8709 (58 FR 53635, October 18, 1993), and by adding a new airworthiness directive (AD), amendment 39-11709, to read as follows:

2000-09-01 McDonnell Douglas:

Amendment 39-11709. Docket 99-NM-338-AD. Supersedes AD 93-20-02, Amendment 39-8709.

Applicability: Model DC-8 series airplanes that have been converted from a passenger to a cargo-carrying (“freighter”) configuration in accordance with Supplemental Type Certificate (STC) SA1802SO or SA421NW; certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To prevent opening of the cargo door while the airplane is in flight, and consequent rapid decompression of the airplane including possible loss of the door, flight control, or severe structural damage, accomplish the following:

Restatement of Requirements of AD 93-20-02

Actions Addressing the Main Deck Cargo Door

(a) Within 7 days after January 21, 1992 (the effective date of AD 92-02-05, amendment 39-8141), and thereafter at intervals not to exceed 100 hours time-in-service, perform the following inspections:

(1) Inspect the cargo door wire bundle between the exit point of the cargo liner and the attachment point on the cargo door to detect crimped, frayed, or chafed wires; and inspect for damaged, loose, or missing hardware mounting components. Prior to further flight, repair any damaged wiring or hardware mounting components in accordance with FAA-approved maintenance procedures.

(2) Inspect the cargo door latch rollers in the lower sill of the cargo door opening of the airplane to ensure that all twelve rollers can be freely rotated by hand. Prior to further flight, replace any discrepant roller components found, and repair any rollers that cannot be rotated freely by hand, in accordance with FAA-approved maintenance procedures.

(b) Within 7 days after November 17, 1993 (the effective date of AD 93-20-02, amendment 39-8709), revise the Limitations Section of the appropriate FAA-approved Airplane Flight Manual Supplement (AFMS) by replacing item 5 in the AFMS for SA1802SO, and item 6 in the AFMS for SA421NW, with the following. (This may be accomplished by inserting a copy of this AD into the AFMS.)

“Prior to initiating the cargo door closing sequence, a flight crew member must verify that the cargo door warning light is illuminated. After the door closing sequence is complete, and visual verification has been made that the latches are closed and the lockpins are properly engaged, a flight crew member must verify that the cargo door warning light is extinguished, and then conduct a PRESS-TO-TEST of the warning light to ensure that the light is operational. Pull the cargo door circuit breakers labeled “pump” and “valve” prior to takeoff. Methods for documentation of compliance with the preceding procedures must be approved by the FAA Principal Maintenance Inspector (PMI).”

New Requirements of This AD

Actions Addressing the Main Deck Cargo Door Powered Lock Systems

(c) Except as provided by paragraph (f) of this AD, within 30 days after the effective date of this AD, unless previously accomplished within the last 18 months prior to the effective date of this AD, replace the circuit breakers of the main deck cargo door labeled “pump” and “valve” with new circuit breakers.

Actions Addressing the Main Deck Cargo Door Hydraulic Systems

(d) Within 18 months after the effective date of this AD, modify the mechanical and hydraulic systems of the main deck cargo door, in accordance with National Aircraft Service, Inc. (NASI) Service Bulletin SB-99-01, Revision A, dated October 15, 1999.

Actions Addressing the Main Deck Cargo Door Indication System

(e) Within 18 months after the effective date of this AD, modify the indication system of the main deck cargo door to indicate to the pilots whether the main deck cargo door is closed, latched, and locked; install a means to visually inspect the locking mechanism of the main deck cargo door; install a means to remove power to the door while the airplane is in flight; and install a means to prevent pressurization to an unsafe level if the main deck cargo door is not closed, latched, and locked; in accordance with a method approved by the Manager, Los Angeles Aircraft Certification Office (ACO), FAA, Transport Airplane Directorate.

Note 2: Installation of NASI Vent Door System STC ST01116CH, is an approved means of compliance with the requirements of paragraph (e) of this AD.

(f) Compliance with both paragraphs (d) and (e) of this AD constitutes terminating action for the requirements of both paragraphs (a) and (b) of this AD, and the AFMS revision required by paragraph (b) of this AD may be removed. Compliance with paragraph (e) of this AD within 30 days after the effective date of this AD eliminates the requirement to comply with paragraph (c) of this AD.

Alternative Methods of Compliance

(g)(1) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 3: Information concerning the existence of approved alternative methods of compliance with this AD, if any, may be obtained from the Los Angeles ACO.

(2) Alternative methods of compliance to paragraph (a) of AD 93-20-02, amendment 39-8709, approved previously in accordance with that AD, are approved as alternative methods of compliance with only paragraph (a) of this AD.

(3) Alternative methods of compliance to paragraph (b) of AD 93-20-02, amendment 39-8709, approved previously in accordance with that AD, are approved as alternative methods of compliance with only paragraph (b) of this AD.

Special Flight Permits

(h) Special flight permits may be issued in accordance with §§ 21.197 and 21.199 of the Federal Aviation Regulations (14 CFR 21.197 and 21.199) to operate the airplane to a location where the requirements of this AD can be accomplished.

Incorporation by Reference

(i) The modification required by paragraph (d) of this AD shall be done in accordance with National Aircraft Service, Inc. (NASI) Service Bulletin SB-99-01, Revision A, dated October 15, 1999. This incorporation by reference was approved by the Director of the Federal Register in accordance with 5 U.S.C. 552(a) and 1 CFR part 51. Copies may be obtained from National Aircraft Service, Inc. (NASI), 9133 Tecumseh-Clinton Road, Tecumseh, MI 49286. Copies may be inspected at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

(j) This amendment becomes effective on June 7, 2000.

Appendix 1

Excerpt from an FAA Memorandum to Director-Airworthiness and Technical Standards of ATA, dated March 20, 1992.

“(1) Indication System:

(a) The indication system must monitor the closed, latched, and locked positions, directly.

(b) The indicator should be amber unless it concerns an outward opening door whose opening during takeoff could present an immediate hazard to the airplane. In that case the indicator must be red and located in plain view in front of the pilots. An aural warning is also advisable. A display on the master caution/warning system is also acceptable as an indicator. For the purpose of complying with this paragraph, an immediate hazard is defined as significant reduction in controllability, structural damage, or impact with other structures, engines, or controls.

(c) Loss of indication or a false indication of a closed, latched, and locked condition must be improbable.

(d) A warning indication must be provided at the door operators station that monitors the door latched and locked conditions directly, unless the operator has a visual indication that the door is fully closed and locked. For example, a vent door that monitors the door locks and can be seen from the operators station would meet this requirement.

(2) Means to Visually Inspect the Locking Mechanism:

There must be a visual means of directly inspecting the locks. Where all locks are tied to a common lock shaft, a means of inspecting the locks at each end may be sufficient to meet this requirement provided no failure condition in the lock shaft would go undetected when viewing the end locks. Viewing latches may be used as an alternate to viewing locks on some installations where there are other compensating features.

(3) Means to Prevent Pressurization:

All doors must have provisions to prevent initiation of pressurization of the airplane to an unsafe level, if the door is not fully closed, latched and locked.

(4) Lock Strength:

Locks must be designed to withstand the maximum output power of the actuators and maximum expected manual operating forces treated as a limit load. Under these conditions, the door must remain closed, latched and locked.

(5) Power Availability:

All power to the door must be removed in flight and it must not be possible for the flight crew to restore power to the door while in flight.

(6) Powered Lock Systems:

For doors that have powered lock systems, it must be shown by safety analysis that inadvertent opening of the door after it is fully closed, latched and locked, is extremely improbable.”

Issued in Renton, Washington, on April 24, 2000.
Donald L. Riggin,
Acting Manager, Transport Airplane Directorate, Aircraft Certification Service.

[FR Doc. 00-10674 Filed 5-2-00; 8:45 am]

BILLING CODE 4910-13-U